DEPARTMENT OF LABOR

Office of the Secretary

Submission for OMB Review: Comment Request

January 12, 2006.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting the Department of Labor (DOL). To obtain documentation, contact Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: Asbestos in Construction Standard (29 CFR 1926.1101).

OMB Number: 1218-0134.

Frequency: On occasion and Annually.

Type of Response: Recordkeeping and Third party disclosure.

Affected Public: Business or other for-profit; Federal Government; and State, Local, or Tribal Government.

Number of Respondents: 286,821.

Number of Annual Responses: 53,719,202.

Estimated Time Per Response: Varies from 5 minutes to maintain records to 17.3 hours to train a competent person.

Total Burden Hours: 5,569,658.

Total Annualized capital/startup costs: $0.

Total Annual Costs (operating/maintaining systems or purchasing services): $30,730,200.

Description: The information collection requirements specified in the Asbestos in Construction Standard protect employees from the adverse health effects that may result from asbestos exposure. The major information collection requirements of the Asbestos in Construction Standard include: implementing an exposure-monitoring program that informs employees of their exposure-monitoring results; and at multi-employer worksites, notification of other onsite employers by employers establishing regulated areas for the type of work performed with asbestos-containing materials (ACMs) and/or presumed asbestos-containing materials (PACMs); the requirements that pertain to regulated areas; and the measures they can use to protect their employees from asbestos overexposure. Other provisions associated with paperwork requirements include: evaluating and certifying alternative control methods for Class I and Class II asbestos work and informing laundry personnel of the requirement to prevent release of airborne asbestos above the time-weighted average and excursion limit; notification by employers and building/facility owners of designated personnel and employees regarding the presence, location, and quantity of ACMs and/or PACMs; using information, data, and analyses to demonstrate that PACM does not contain asbestos; posting signs in mechanical rooms/areas that employees may enter and that contain ACMs and PACMs, informing them of the identity and location of these materials and work practices that prevent disturbing the materials; posting warning signs demarcating regulated areas; and affixing warning labels to asbestos-containing products and to containers holding such products. Additional provisions of the Standard that contain paperwork requirements include: developing specific information and training programs for employees; providing medical surveillance for employees potentially exposed to ACMs and/or PACMs, including administering an employee medical questionnaire, providing information to the examining physician, and providing the physician's written opinion to the employee; maintaining records of objective data used for exposure determinations, employee exposure-monitoring and medical surveillance records, training records, the record (i.e., information, data, and analyses) used to demonstrate that PACM does not contain asbestos, and notifications made and received by building/facility owners regarding the content of ACMs and PACMs; making specified records (e.g., exposure-monitoring and medical surveillance records) available to designated parties; and transferring exposure-monitoring and medical surveillance records to the National Institute for Occupational Safety and Health on cessation of business.

These paperwork requirements permit employers, employees and their designated representatives, OSHA, and other specified parties to determine the effectiveness of an employer's asbestos-control program. It provides notification to building owners, subsequent building owners, contractors and employees of the presence of asbestos so that precautions can be taken to protect workers. It provides for monitoring and medical surveillance to assure that exposures are kept low and early symptoms are detected. Accordingly, the requirements ensure that employees exposed to asbestos receive all of the protection afforded by the Standard.

Agency: Occupational Safety and Health Administration.

Type of Review: Extension of currently approved collection.

Title: Asbestos in Shipyards (29 CFR 1915.1001).

OMB Number: 1218-0195.

Frequency: On occasion; Semi-annually; and Annually.

Type of Response: Recordkeeping and Third party disclosure.

Affected Public: Business or other for-profit; Federal Government; and State, Local, or Tribal Government.

Number of Respondents: 19.

Number of Annual Responses: 2,210.

Estimated Time Per Response: Varies from 5 minutes to maintain records to 17.3 hours for training a competent person.

Total Burden Hours: 1,426.

Total Annualized capital/startup costs: $0.

Total Annual Costs (operating/maintaining systems or purchasing services): $33,635.

Description: Several provisions of the Standard specify paperwork requirements, including: Implementing an exposure-monitoring program that informs employees of their exposure-monitoring results; and, at multi-employer worksites, notification of other onsite employers by employers establishing regulated areas of the type of work performed with asbestos-containing materials (ACMs) and/or presumed asbestos-containing materials (PACMs), the requirements that pertain to regulated areas, and the measures they can use to protect their employees from asbestos overexposure. Other provisions associated with paperwork requirements include: Evaluating and certifying alternative control methods for Class I and Class II asbestos work and, for Class I asbestos work, a requirement to send a copy of the evaluation and certification to the OSHA national office; informing laundry personnel of the requirement to prevent release of airborne asbestos above the time-weighted average and excursion limit; notification by employers and building/facility owners of designated personnel and employees regarding the presence, location, and quantity of ACMs and/or PACMs; using information, data, and analyses to demonstrate that PACM does not contain asbestos; posting signs in mechanical rooms/areas that employees may enter and that contain ACMs and PACMs, informing them of the identity and location of these materials and work practices that prevent disturbing the materials; posting warning signs demarcating regulated areas; and affixing warning labels to asbestos-containing products and to containers holding such products.

Additional provisions of the Standard that contain paperwork requirements include: Developing specific information and training programs for employees; providing medical surveillance for employees potentially exposed to ACMs and/or PACMs, including administering an employee medical questionnaire, providing information to the examining physician, and providing the physician's written opinion to the employee; maintaining records of objective data used for exposure determinations, employee exposure-monitoring and medical-surveillance records, training records, the record (i.e., information, data, and analyses) used to demonstrate that PACM does not contain asbestos, and notifications made and received by building/facility owners regarding the content of ACMs and PACMs; making specified records (e.g., exposure-monitoring and medical-surveillance records) available to designated parties; and transferring exposure-monitoring and medical-surveillance records to the National Institute for Occupational Safety and Health on cessation of business.

Ira L. Mills,
Departmental Clearance Officer.

[FR Doc. E6-534 Filed 1-18-06; 8:45 am]

BILLING CODE 4510-26-P